NEIGHBORHOOD REINVESTMENT CORPORATION

Regular Board of Directors Meeting; Sunshine Act

TIME & DATE: 10:00 a.m., Tuesday, September 29, 2015.

PLACE: NeighborWorks America—Gramlich Boardroom, 999 North Capitol Street NE., Washington DC 20002.

STATUS: Open (with the exception of Executive Session).

CONTACT PERSON: Jeffrey Bryson, General Counsel/Secretary, (202) 760-4101; jbryson@nw.org.

AGENDA:

I. CALL TO ORDER

II. Executive Session: Report from CEO

III. Executive Session: Executive Compensation

IV. Executive Session: Audit Committee Report Out

V. Approval of Minutes

VI. Staff Presentation

VII. FY16 Preliminary Budget

VIII. LIFT Program

IX. Bank Settlement

X. Strategic Planning Process

XI. Management Program Updates

XII. Adjournment

Jeffrey T. Bryson,
EVP & General Counsel/Corporate Secretary.

[FR Doc. 2015-24440 Filed 9-22-15; 4:15 pm]

BILLING CODE 7570-02-P